DEPARTMENT OF LABOR

Vacancy Posting; Member of the Administrative Review Board; Correction

AGENCY: Department of Labor.

ACTION: Notice; correction.

SUMMARY: The Department of Labor published a vacancy posting in the Federal Register of October 15, 2020 for a Member, Administrative Review Board job opportunity. The vacancy posting contains incorrect dates.

FOR FURTHER INFORMATION CONTACT: Robert White, (202) 693-2547.

SUPPLEMENTARY INFORMATION:

Correction

In the Federal Register of October 15, 2020, in FR Doc. 2020-22791, on page 1, in the second column, correct the DATES caption to read:

DATES: Resumes must be submitted (postmarked, if sending by mail; submitted electronically; or received, if hand-delivered) by 11:59 p.m. EDT on November 09, 2020. Resumes must be submitted to: white.robert.t@dol.gov or mailed to: U.S. Department of Labor, 200 Constitution Avenue NW, ATTN: Division of Executive Resources, Room N2495, Washington, DC 20210, phone: 202-693-2457. This is not a toll-free number.

Dated: November 5, 2020.
Bryan Slater,
Assistant Secretary for Administration & Management.

[FR Doc. 2020-24979 Filed 11-10-20; 8:45 am]

BILLING CODE 4510-HW-P